DEPARTMENT OF ENERGY

Federal Energy Regulatory Commission

Sunshine Act Meetings

The following notice of meeting is published pursuant to section 3(a) of the government in the Sunshine Act (Pub. L. 94-409), 5 U.S.C.552b:

AGENCY HOLDING MEETING: Federal Energy Regulatory Commission.

TIME AND DATE: September 19, 2024, 10:00 a.m.

PLACE: Room 2C, 888 First Street NE, Washington, DC 20426.

STATUS: Open to public.

MATTERS TO BE CONSIDERED: Agenda.

* Note—Items listed on the agenda may be deleted without further notice.

CONTACT PERSON FOR MORE INFORMATION: Debbie-Anne A. Reese, Acting Secretary, Telephone 202-502-8758.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1117th—Meeting
[Open; September 19, 2024, 10:00 a.m.]
Item No. | Docket No. | Company
Administrative
A-1 | AD24-1-000 | Agency Administrative Matters.
A-2 | AD24-2-000 | Customer Matters Reliability Security and Market Operations.
Electric
E-1 | RM24-4-000 | Supply Chain Risk Management Reliability Standards Revisions.
E-2 | RM24-7-000 | Critical Infrastructure Protection Reliability Standard CIP-015-1—Cyber Security—Internal Network Security Monitoring.
E-3 | ER24-10-001 | Idaho Power Company.
E-4 | ER24-1559-000; ER24-1559-001 | Puget Sound Energy, Inc.
E-5 | ER24-2023-000 | Black Hills Colorado Electric, LLC.
E-6 | ER24-2027-000 | Golden Spread Electric Cooperative, Inc.
E-7 | ER19-1793-002 | Valcour Altona Windpark, LLC.
| ER19-1795-002 | Valcour Bliss Windpark, LLC.
| ER19-1796-002 | Valcour Chateaugay Windpark, LLC.
| ER19-1797-002 | Valcour Clinton Windpark, LLC.
| ER19-1798-002 | Valcour Ellenburg Windpark, LLC.
| ER19-1799-002 | Valcour Wethersfield Windpark, LLC.
| ER19-902-003 | Valcour Wind Energy, LLC.
| ER11-2036-015 | AES Laurel Mountain, LLC.
| ER20-1593-005 | Highlander Solar Energy Station 1, LLC.
| ER20-1594-004 | Highlander IA, LLC.
| ER20-1596-005 | Pleinmont Solar 1, LLC.
| ER20-1597-005 | Pleinmont Solar 2, LLC.
| ER20-1599-005 | Richmond Spider Solar, LLC.
| ER18-2327-007 | Riverhead Solar Farm, LLC.
| ER21-2767-002 | Skipjack Solar Center, LLC.
| ER22-1518-002 | Laurel Mountain BESS, LLC.
| ER23-1631-001 | Cavalier Solar A, LLC.
| ER19-1597-005 | AES Integrated Energy, LLC.
| ER20-1620-003 | AES Solutions Management, LLC.
| ER22-414-003 | AES Marketing and Trading, LLC.
| ER23-495-004 | AES CE Solutions, LLC.
| ER20-902-002 | sPower Energy Marketing, LLC.
E-8 | ER19-1634-003 | Bridgeport Energy LLC.
| ER14-152-012 | Elgin Energy Center, LLC.
| ER13-1141-006 | Essential Power Massachusetts, LLC.
| ER13-1142-006 | Essential Power Newington, LLC.
| ER13-1143-009 | Essential Power OPP, LLC.
| ER13-1144-009 | Essential Power Rock Springs, LLC.
| ER20-2452-004 | Hamilton Liberty LLC.
| ER20-2453-005 | Hamilton Patriot LLC.
| ER20-844-003 | Hamilton Projects Acquiror, LLC.
| ER10-2196-008 | Lakewood Cogeneration, L.P.
| ER20-528-003 | Lincoln Power, L.L.C.
| ER17-1849-007 | Nautilus Power, LLC.
| ER19-1009-002 | Revere Power, LLC.
| ER16-918-005 | Rhode Island State Energy Center, LP.
| ER10-2740-016 | Rocky Road Power, LLC.
| ER19-1633-003 | Rumford Power LLC.
| ER15-1657-013 | SEPG Energy Marketing Services, LLC.
| ER19-1638-003 | Tiverton Power LLC.
E-9 | ER10-2398-014 | Blackstone Wind Farm, LLC.
| ER10-2399-014 | Blackstone Wind Farm II LLC.
| ER10-2406-015 | High Trail Wind Farm, LLC.
| ER10-2408-009 | Marble River, LLC.
| ER10-2409-014 | Meadow Lake Wind Farm LLC.
| ER10-2410-014 | Meadow Lake Wind Farm II LLC.
| ER10-2411-015 | Meadow Lake Wind Farm III LLC.
| ER10-2412-015 | Meadow Lake Wind Farm IV LLC.
| ER11-2935-016 | Paulding Wind Farm II LLC.
| ER13-1816-020 | Sustaining Power Solutions LLC.
| ER14-1933-014 | Headwaters Wind Farm LLC.
| ER16-1152-007 | Jericho Rise Wind Farm LLC.
| ER16-1724-012 | Paulding Wind Farm III LLC.
| ER17-1314-006 | Arkwright Summit Wind Farm LLC.
| ER18-1189-009 | Meadow Lake Wind Farm VI LLC.
| ER19-1282-007 | Paulding Wind Farm IV LLC.
| ER20-2714-005 | Headwaters Wind Farm II LLC.
| ER22-2115-002 | Timber Road Solar Park LLC.
| ER22-2116-002 | Blue Harvest Solar Park LLC.
| ER23-1585-001 | Riverstart Solar Park III LLC.
E-10 | ER10-1910-027 | Duquesne Light Company.
| ER10-1911-027 | Duquesne Power, LLC.
E-11 | ER24-2570-000 | Southwest Power Pool, Inc.
E-12 | EL24-99-000 | Virginia Municipal Electric Association #1 v. Virginia Electric and Power Co.
E-13 | EL23-104-000 | Enerwise Global Technologies, LLC v. PJM Interconnection, L.L.C.
Gas
G-1 | RM96-1-043 | Standards for Business Practices of Interstate Natural Gas Pipelines.
G-2 | RP24-971-000 | Vector Pipeline L.P.
Hydro
H-1 | P-15340-001 | Pembroke Tidal Power Project, LLC.
H-2 | P-7656-019; P-7656-017 | Village of Highland Falls High-Point Utility, LDC.
Certificates
C-1 | CP23-15-001 | ANR Pipeline Company.
C-2 | CP24-68-000 | National Fuel Gas Supply Corporation.
C-3 | CP24-487-000 | LA Storage, LLC.
C-4 | CP18-7-000; CP20-21-000; CP23-513-000 | Port Arthur Pipeline, LLC.
C-5 | CP15-550-002; CP15-550-000 | Venture Global Calcasieu Pass, LLC.
C-6 | CP24-40-000 | Leaf River Energy Center LLC.

A free webcast of this event is available through the Commission's website. Anyone with internet access who desires to view this event can do so by navigating to www.ferc.gov's Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: September 12, 2024.
Debbie-Anne A. Reese,
Acting Secretary.

[FR Doc. 2024-21291 Filed 9-16-24; 11:15 am]

BILLING CODE 6717-01-P